DEPARTMENT OF EDUCATION

34 CFR Part 690

[Docket ID ED-2012-OPE-0006]

RIN 1840-AD11

Federal Pell Grant Program; Correction

AGENCY: Office of Postsecondary Education, Department of Education.

ACTION: Interim final rule; correction.

SUMMARY: The Secretary of Education is correcting the Federal Pell Grant Program interim final rule published in the Federal Register on May 2, 2012 (77 FR 25893). We waived rulemaking and the delayed effective date under the Administrative Procedure Act in this interim final rule, but we did not expressly waive the 60-day time period for a major rule to become effective under the Congressional Review Act. Through this document, we correct this omission. We do not change any other aspect of the interim final rule, and its regulatory text remains unchanged.

DATES: Effective July 11, 2012.

FOR FURTHER INFORMATION CONTACT: Jacquelyn Butler, U.S. Department of Education, 1990 K Street NW., Room 8053, Washington, DC 20006-8542. Telephone: (202) 502-7890 or by email: jacquelyn.butler@ed.gov.

If you use a telecommunications device for the deaf (TDD) or a text telephone (TTY), call the Federal Relay Service (FRS), toll free, at 1-800-877-8339.

SUPPLEMENTARY INFORMATION: We make the following correction to the Federal Pell Grant Program interim final rule:

On page 25898, in the first column, replace the last paragraph under the heading Waiver of Rulemaking and Delayed Effective Date with the following two paragraphs:

The Administrative Procedure Act (APA) generally requires that regulations be published at least 30 days before their effective date, unless the agency has good cause to implement its regulations sooner (5 U.S.C. 553(d)(3)). In addition, this interim final rule has been determined to be a major rule for purposes of the Congressional Review Act (CRA) (5 U.S.C. 801, et seq.). Generally, under the CRA, a major rule takes effect 60 days after the date on which the rule is published in the Federal Register. Section 808(2) of the CRA, however, provides that any rule which an agency for good cause finds (and incorporates the finding and a brief statement of reasons therefore in the rule issued) that notice and public procedure thereon are impracticable, unnecessary, or contrary to the public interest, shall take effect at such time as the Federal agency promulgating the rule determines.

As previously stated, because this interim final rule merely reflects statutory changes and removes obsolete regulatory provisions and, in the case of new § 690.64, protects students from receiving reduced amounts of Pell Grant funds, there is good cause to waive the delayed effective dates in the APA and the CRA and make this interim final rule effective on the day it is published.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Dated: July 6, 2012.
David A. Bergeron,
Acting Assistant Secretary for Postsecondary Education.

[FR Doc. 2012-16929 Filed 7-10-12; 8:45 am]

BILLING CODE 4000-01-P